DEPARTMENT OF HOMELAND SECURITY

Coast Guard

33 CFR Part 117

[Docket No. USCG-2009-1098]

Drawbridge Operation Regulation; Atlantic Intracoastal Waterway, Riviera Beach, FL

AGENCY: Coast Guard, DHS.

ACTION: Notice of temporary deviation from regulations.

SUMMARY: The Commander, Seventh Coast Guard District, has issued a temporary deviation from the regulation governing the operation of the Parker (US-1) bridge across the Atlantic Intracoastal Waterway, mile 1,013.7, at Riviera Beach, Palm Beach County, Florida. The deviation is necessary to allow timely bridge rehabilitation and to provide for worker safety. This deviation allows the bridge to be placed on single-leaf operations. Double-leaf operations will be allowed with a four hour notice. The deviation may be cancelled at any time via Broadcast Notice to Mariners.

DATES: This deviation is effective from May 10, 2010 through October 31, 2010.

ADDRESSES: Documents mentioned in this preamble as being available in the docket are part of docket USCG-2009-1098 and are available online by going to http://www.regulations.gov, inserting USCG-2009-1098 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or e-mail Mr. Gene Stratton, Bridge Management Specialist, Seventh District, Bridge Branch, U.S. Coast Guard; telephone 305-415-6740, e-mail allen.e.stratton@uscg.mil. If you have questions on viewing the docket, call Renee V. Wright, Program Manager, Docket Operations, telephone 202-366-9826.

SUPPLEMENTARY INFORMATION: The Florida Department of Transportation requests a temporary deviation from the published regulation for the Parker Bridge (US-1) across the Atlantic Intracoastal Waterway as required by 33 CFR 117.261(t): The draw shall open on the quarter and three-quarter hour.

The Florida Department of Transportation requests a deviation allowing for single-leaf operations from May 10, 2010 through October 31, 2010. Double-leaf openings will be available with a four hour notice to the bridge tender.

This deviation will allow the rehabilitation of the bridge to be completed in a timely fashion while not unreasonably affecting vessel traffic as it does provide for requested double-leaf opening with a four hour notice. This rehabilitation is necessary to extend the bridge life.

In accordance with 33 CFR 117.35(e), the drawbridge must return to its regular operating schedule immediately at the end of the designated time period. This deviation from the operating regulations is authorized under 33 CFR 117.35.

Dated: April 21, 2010.
R.S. Branham,
Rear Admiral, U.S. Coast Guard, Commander, Seventh Coast Guard District.

[FR Doc. 2010-10328 Filed 5-3-10; 8:45 am]

BILLING CODE 9110-04-P